DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period July 16, 2005-August 19, 2005
Firm name | Address | Date petition accepted | Product
Source Code Corporation | 290 Vanderbilt Avenue Norwood, MA 02062 | 10-Aug-05 | Computers and servers.
ITA Corporation | 2401 Research Boulevard Rockville, MD 20850 | 25-Jul-05 | Accounting and human resource software.
Rolco, Inc | 946 East Hill Street Kasota, MN 56050 | 29-Jul-05 | Injection mold plastic components for general industrial, table games, medical equipment, electronics and automobiles.
Harden Furniture, Inc | 8550 Mill Pond Way McConnellsville, NY 13401 | 22-Jul-05 | Hardwood end tables, entertainment centers, dining room tables and chairs, and beds and bedroom furniture.
Criterion Technology, Inc | 101 McIntosh Parkway Thomaston, GA 30286 | 22-Jul-05 | Thermoformed or injection-molded acrylic and polycarbonate enclosures/castings, used primarily to protect security cameras.
Garmat USA, Inc | 1401 West Standord Avenue Englewood, CO 80110 | 26-Jul-05 | Enclosure systems for process control in automotive applications.
Whirley Industries, Inc | 618 Fourth Avenue Warren, PA 16365 | 26-Jul-05 | Plastic cups.
Trapper Peak Forge, Inc. d.b.a. Hacienda Iron Craft | 4072 Eastside Highway Stevensville, MT 59870 | 29-Jul-05 | Ornamental iron work.
Quality Metal Products, Inc | 11500 West 13th Avenue Lakewood, CO 80215 | 29-Jul-05 | Counters, lockers, racks, display cases, shelves, partitions and similar fixtures of metal.
Sashco, Inc | 10300 East 107th Place Brighton, CO 80601 | 10-Aug-05 | Acrylic polymer.
Marlin Firearms Company (The) | 100 Kenna Drive North Haven, CT 06473 | 16-Aug-05 | Shotguns and rifles.
RMO, Inc | 650 West Colfax Avenue Denver, CO 80204 | 11-Aug-05 | Non plastic dental fittings.
KALD Tool and Die Corporation | 3022 Highway 145 Richfield, WI 53076 | 11-Aug-05 | Molds for plastic injection molding and metal die casting.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7812, Economic Development Administration, U.S. Department of Commerce, Washington, DC 20230, no later than the close of business of the tenth calendar day following the publication of this notice. The Catalog of Federal Domestic Assistance official program number and title of the program under which these petitions are submitted is 11.313, Trade Adjustment Assistance.

Dated: August 19, 2005.
Anthony J. Meyer,
Senior Program Analyst, Office of Strategic Initiatives.

[FR Doc. 05-16892 Filed 8-24-05; 8:45 am]

BILLING CODE 3510-24-P